NUCLEAR REGULATORY COMMISSION

Notice of Availability of Draft Environmental Impact Statement for the Construction and Operation of the Proposed Mixed Oxide Fuel Fabrication Facility at the Savannah River Site, South Carolina, and Notice of Public Meetings

AGENCY: Nuclear Regulatory Commission.

ACTION: Notice of availability of Draft Environmental Impact Statement and notice of public meetings.

SUMMARY: Notice is hereby given that the U.S. Nuclear Regulatory Commission (NRC) is issuing a Draft Environmental Impact Statement (DEIS) on the proposed construction and operation of a mixed oxide (MOX) fuel fabrication facility at the Savannah River Site in South Carolina. The DEIS is being issued as part of the NRC's decision-making process on whether to authorize Duke Cogema Stone & Webster (DCS), a contractor of the U.S. Department of Energy (DOE), to construct and operate the proposed MOX fuel fabrication facility (MOX facility).

The proposed MOX facility would convert depleted uranium dioxide and weapons-grade plutonium dioxide into MOX fuel. The DEIS discusses the purpose and need for the proposed MOX facility, and reasonable alternatives to the proposed action, including the no-action alternative. The DEIS also discusses the environment potentially affected by the proposal, presents and compares the potential environmental impacts resulting from the proposed action and its alternatives, and identifies mitigation measures that could eliminate or lessen the potential environmental impacts.

Based on the evaluation in the DEIS, the NRC environmental review staff has concluded that mitigation measures identified by DCS, and additional measures identified by NRC staff would reduce or eliminate adverse environmental impacts of the proposed action. The DEIS is a preliminary analysis of the environmental impacts of the proposed action and its alternatives. The Final EIS and any decision documentation regarding the proposed action will not be issued until public comments on the DEIS have been received and evaluated. Notice of the availability of the Final EIS will be published in the Federal Register.

Availability of Documents for Review

The DEIS, and other documents on which the DEIS is based, are available for public review through our electronic reading room: http://www.nrc.gov/reading-rm.html. A selected group of these documents are on the MOX web page: http://www.nrc.gov/materials/fuel-cycle-fac/mox/licensing.html. For those without access to the internet, paper copies of any electronic documents may be obtained for a fee by contacting the NRC's Public Document Room at 1-800-397-4209.

Public Comment

The NRC is offering an opportunity for public review and comment on the DEIS in accordance with applicable regulations, including NRC requirements in 10 CFR 51.73, 51.74 and 51.117. Any interested party may submit written comments on the proposed action and on the DEIS for consideration by the NRC staff. To be certain of consideration, comments must be received by April 14, 2003. Written comments submitted by mail should be postmarked by that date to ensure consideration. Comments received after the due date will be considered if it is practical to do so, but the NRC staff is able to assure consideration only for comments received on or before April 14, 2003.

ADDRESSES: Submit written comments to: Michael T. Lesar, Chief, Rules and Directives Branch, Division of Administrative Services, Office of Administration, Mail Stop T-6D59, U.S. Nuclear Regulatory Commission, Washington, DC 20555. Comments will also be accepted by e-mail. Interested parties may e-mail their comments to the@nrc.gov. Comments will also be accepted by fax at (301) 415-5398, Attention: Tim Harris.

Public Meetings

The NRC will hold three public meetings to present an overview of the DEIS and to accept oral and written public comments. Prior to the Public Meetings, NRC staff will be available to informally discuss the MOX project and answer questions in an “open house” format. The meeting dates, times and locations are listed below:

March 25, 2003, Coastal Georgia Center, 305 Fahm Street, Savannah, Georgia, Open House: 5:30 p.m. to 7 p.m. Public Meeting: 7 p.m. to 10 p.m.

March 26, 2003, North Augusta Community Center, 495 Brookside Avenue, North Augusta, South Carolina, Open House: 5:30 p.m. to 7 p.m. Public Meeting: 7 p.m. to 10 p.m.

March 27, 2003, Charlotte-Mecklenburg Government Center, 600 E. Fourth Street, Charlotte, North Carolina, Open House: 5:30 p.m. to 7 p.m. Public Meeting: 7 p.m. to 10 p.m.

All meetings will be transcribed and will include (1) a presentation summarizing the contents of the DEIS and (2) an opportunity for interested government agencies, organizations, and individuals to provide comments on the DEIS. Persons should register prior to the start of each meeting to provide oral comments. Individual oral comments may have to be limited by the time available, depending upon the number of persons who register.

If special equipment or accommodations are needed to attend or present information at the public meeting, the need should be brought to Mr. Harris' attention no later than March 19, 2003, to provide NRC staff with adequate notice to determine whether the request can be accommodated.

FOR FURTHER INFORMATION CONTACT: For general information on the NRC NEPA process, please contact: Tim Harris at (301) 415-6613. For general or technical information associated with the proposed MOX facility, please contact: Drew Persinko at (301) 415-6522.

SUPPLEMENTARY INFORMATION: In January 2000, the DOE issued a Record of Decision pertaining to its surplus plutonium disposition program and the DOE's 1999 EIS related to this program [65 FR 1608]. The fundamental purpose of the DOE program is to ensure that plutonium produced for nuclear weapons and declared excess to national security needs is converted to forms that are inaccessible and unattractive for use in nuclear weapons.

The DEIS for the proposed MOX facility was prepared by the staff of the NRC and its contractor, Argonnne National Laboratory, in compliance with the National Environmental Policy Act (NEPA), and the NRC's regulations for implementing NEPA (10 CFR part 51). The proposed action involves a decision by NRC of whether to authorize DCS to construct and later operate the proposed MOX facility at the SRS to convert surplus weapons plutonium into MOX fuel.

If approved by the NRC, the proposed MOX facility would be built in the F-Area of the DOE's Savannah River Site (SRS). Feedstock (surplus plutonium dioxide and depleted uranium dioxide) would have to be transported to SRS to make the MOX fuel. To support operation of the proposed MOX facility, two other new facilities would have to be built by the DOE at the SRS. Infrastructure upgrades, such as construction waste transfer pipelines, electric utility line realignment, and addition of access roads, would also be required. Any MOX fuel made at the proposed MOX facility would be transported to mission reactors, where it would be irradiated.

NRC published a Notice of Intent to prepare an EIS for the proposed MOX facility, and to conduct a scoping process, in the Federal Register on March 7, 2001 [66 FR 13794]. NRC staff subsequently held scoping meetings, and issued a Scoping Summary Report in August 2001. In early 2002, DOE announced its decision to alter its planned approach for surplus weapons plutonium disposition [67 FR 19432], causing the NRC to delay its issuance of the DEIS for the proposed MOX facility. On August 22, 2002, the NRC announced three mid-September public meetings to discuss changes in DCS’ Environmental Report that resulted from changes in DOE's plans [67 FR 54501]. The meetings were held on September 17 in Savannah, Georgia, September 18 in Augusta, Georgia, and September 19 in Charlotte, North Carolina.

The DEIS describes the proposed action, and alternatives to the proposed action, including the no-action alternative. The DEIS’ discussion of the no-action alternative evaluates the environmental impacts of the continued storage of surplus plutonium in various DOE locations nationwide, in the event NRC decides not to approve the proposed MOX facility. Alternatives considered but not analyzed in detail include alternate locations for the proposed MOX facility in the F-Area, alternative technology and design options, immobilization of surplus plutonium instead of producing MOX fuel, deliberately making off-specification MOX fuel, and the Parallex Project, the latter of which involves irradiating the MOX fuel in Candian CANDU reactors. Additionally, the DEIS compares the impacts of using HEPA filters to the impacts of using sand filters for removal of particulate air emissions.

The DEIS assesses the impacts of the proposed action and its alternatives for the issues of human health, air quality, hydrology, waste management, geology, noise, ecology, land use, cultural and paleontological resources, infrastructure, socioeconomics, accident impacts, decommissioning and environmental justice. Additionally, the DEIS analyzes and compares the costs and benefits of the proposed action.

Based on the evaluation in the DEIS, the NRC's preliminary recommendation is that the proposed action be approved, with implementation of proposed mitigation measures which would eliminate or substantially lessen any potential adverse environmental impacts.

This DEIS is a preliminary analysis of the environmental impacts of the proposed action. The NRC will review the public's comments, conduct any necessary analyses, and make appropriate revisions in developing the Final EIS for the proposed MOX facility.

Participation in the public comment process for the DEIS does not entitle participants to become parties to the ongoing NRC adjudicatory proceeding pertaining to the construction of the proposed MOX facility. Participation in adjudicatory proceedings is governed by the 10 CFR part 2 hearing procedures.

Dated at Rockville, Maryland, this 20th day of February 2003.
For the Nuclear Regulatory Commission.
Lawrence E. Kokajko,
Acting Chief, Environmental and Performance Assessment Branch, Division of Waste Management, Office of Nuclear Material Safety and Safeguards.

[FR Doc. 03-4753 Filed 2-27-03; 8:45 am]

BILLING CODE 7590-01-P